FEDERAL EMERGENCY MANAGEMENT AGENCY

[FEMA-3168-EM]

Virginia; Emergency and Related Determinations

AGENCY: Federal Emergency Management Agency (FEMA).

ACTION: Notice.

SUMMARY: This is a notice of the Presidential declaration of an emergency for the Commonwealth of Virginia (FEMA-3168-EM), dated September 12, 2001, and related determinations.

EFFECTIVE DATE: September 12, 2001.

FOR FURTHER INFORMATION CONTACT: Madge Dale, Readiness, Response and Recovery Directorate, Federal Emergency Management Agency, Washington, DC 20472, (202) 646-2705.

SUPPLEMENTARY INFORMATION: Notice is hereby given that, in a letter dated September 12, 2001, the President declared an emergency under the authority of the Robert T. Stafford Disaster Relief and Emergency Assistance Act, 42 U.S.C. 5121-5204c (the Stafford Act), as follows:

I have determined that the emergency conditions in certain areas of the Commonwealth of Virginia, resulting from fires and explosions on September 11, 2001, is of sufficient severity and magnitude to warrant an emergency declaration under subsection 501(b) of the Robert T. Stafford Disaster Relief and Emergency Assistance Act, 42 U.S.C. 5121-5204c (the Stafford Act). My decision to make this declaration pursuant to subsection 501(b) of the Stafford Act is based upon the fact that the explosion occurred at a Federally-owned facility. I, therefore, declare that such an emergency exists in the Commonwealth of Virginia.

In order to provide Federal assistance, you are hereby authorized to coordinate and direct other Federal agencies and fund activities not authorized under other Federal statutes and allocate from funds available for these purposes, such amounts as you find necessary for Federal emergency assistance and administrative expenses.

Pursuant to this emergency declaration, you are authorized to provide emergency assistance as you deem appropriate under Title V of the Stafford Act at 100 percent Federal funding.

Further, you are authorized to make changes to this declaration to the extent allowable under the Stafford Act.

Notice is hereby given that pursuant to the authority vested in the Director of the Federal Emergency Management Agency under Executive Order 12148, I hereby appoint Thomas Davies of the Federal Emergency Management Agency to act as the Federal Coordinating Officer for this declared emergency.

I do hereby determine the following area of the Commonwealth of Virginia to have been affected adversely by this declared emergency:

Arlington County for emergency assistance under Section 502 of the Stafford Act as deemed necessary by the Federal Coordinating Officer.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program)
Joe M. Allbaugh,
Director.

[FR Doc. 01-23650 Filed 9-20-01; 8:45 am]

BILLING CODE 6718-02-P